DEPARTMENT OF THE TREASURY

Submission for OMB Review; Comment Request

December 28, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 4, 2005, to be assured of consideration.

Internal Revenue Service (IRS)

OMB Number: 1545-1628.

Regulation Project Number: REG-118620-97 Final.

Type of Review: Extension.

Title: Communications Excise Tax; Prepaid Telephone Cards.

Description: Carriers must keep certain information documenting their sales of prepaid telephone cards to other carriers to avoid responsibility for collecting tax. The regulations provide rules for the application of the communications excise tax to prepaid telephone cards.

Respondents: Business or other for-profit.

Estimated Number of Respondents/Recordkeepers: 104.

Estimated Burden Hours Respondent/Recordkeeper: 20 minutes.

Frequency of Response: On occasion.

Estimated Total Reporting/Recordkeeping Burden: 34 hours.

Clearance Officer: Paul H. Finger, (202) 622-3634, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 05-172 Filed 1-4-05; 8:45 am]

BILLING CODE 4830-01-P